NATIONAL ARCHIVES AND RECORDS ADMINISTRATION

[NARA-2023-013]

Records Management; General Records Schedule (GRS); GRS Transmittal 33

AGENCY: National Archives and Records Administration (NARA).

ACTION: Notice of new General Records Schedule (GRS) Transmittal 33.

SUMMARY: NARA is issuing revisions to the General Records Schedule (GRS). The GRS provides mandatory disposition instructions for records common to several or all Federal agencies. Transmittal 33 includes only changes we have made to the GRS since we published Transmittal 32 in March 2022. Additional GRS schedules remain in effect that we are not issuing via this transmittal.

DATES: This transmittal is effective January 11, 2023.

ADDRESSES: You can find all GRS schedules, crosswalks, and FAQs at http://www.archives.gov/records-mgmt/grs.html (in Word, PDF, and CSV formats). You can download the complete current GRS, in PDF format, from the same location.

FOR FURTHER INFORMATION CONTACT: For more information about this notice or to obtain paper copies of the GRS, contact Kimberly Richardson, Strategy and Performance Division, by email at regulation_comments@nara.gov or by telephone at 301-837-2902. Writing and maintaining the GRS is the GRS Team's responsibility. This team is part of Records Management Services in the National Records Management Program, Office of the Chief Records Officer, at NARA. You may contact NARA's GRS Team with general questions about the GRS at GRS_Team@nara.gov.

Your agency's records officer may contact the NARA appraiser or records analyst with whom your agency normally works for support in carrying out this transmittal and the revised portions of the GRS. You may access a list of the appraisal and scheduling work group and regional contacts on our website at http://www.archives.gov/records-mgmt/appraisal/index.html.

SUPPLEMENTARY INFORMATION: GRS Transmittal 33 announces changes to the General Records Schedules (GRS) made since NARA published GRS Transmittal 32 in March 2022. The GRS provide mandatory disposition instructions for records common to several or all Federal agencies per 44 U.S.C. 3303a(d).

Transmittal 33 includes alterations to three previously published schedules. This transmittal publishes only those schedules which have changed since they were last published in a transmittal. Other schedules not published in this transmittal remain current and authoritative. You can find all schedules (in Word and PDF formats), a master crosswalk, FAQs for all schedules, and FAQs about the whole GRS at http://www.archives.gov/records-mgmt/grs.html.

1. What changes does this transmittal make to the GRS?

GRS Transmittal 33 publishes updates to:

GRS 2.3—Employee Relations Records (see question 3 below)

GRS 3.2—Information Systems Security Records (see question 4 below)

GRS 6.1—Email and Other Electronic Messages Managed Under a Capstone Approach (see question 5 below)

2. What changes did we make to GRS 2.3, Employee Relations Records?

We updated items 010 and 020 to incorporate records related to religious accommodations. Previously, these items only covered records related to reasonable accommodations.

3. What changes did we make to GRS 3.2, Information Systems Security Records?

We added items 035 and 036 for cybersecurity logging records to support record retention requirements established in OMB Memo M-21-31, Improving the Federal Government's Investigative and Remediation Capabilities Related to Cybersecurity Incidents.

4. What changes did we make to GRS 6.1, Email and Other Electronic Messages Managed Under a Capstone Approach?

This update expands the scope of GRS 6.1 beyond email to certain electronic messages, as reflected in the title change: “Email and Other Electronic Messages Managed under a Capstone Approach.”

Agencies will now have the option of applying the GRS 6.1 Capstone approach to:

• electronic messages affiliated with email system chat or messaging functions, where the messages are managed independently from the email;

• messages from messaging services provided on mobile devices; and

• messages from messaging services on third‐party applications.

Agencies still must submit NARA Form NA-1005, Verification for the Use of GRS 6.1, Email and Other Electronic Messages Managed Under a Capstone Approach, for approval to use GRS 6.1.

5. How do agencies cite GRS items?

When citing the legal disposition authority for records covered by the GRS on NARA documents, either when transferring records to Federal Records Centers for storage, to NARA for accessioning, or when requesting GRS deviations on record schedules, use the “DAA” number in the “Disposition Authority” column of the table. For example, “DAA-GRS-2017-0007-0008” rather than “GRS 2.2, item 070.” A GRS Disposition Authority Look-Up Table is available on our website at https://www.archives.gov/records-mgmt/grs.html.

6. Do agencies have to take any action to implement these GRS changes?

If your agency chooses to use the Capstone approach to managing email and other electronic messages (GRS 6.1), your agency must first submit the form NA-1005, Verification for the Use of GRS 6.1, for NARA review and approval. An agency may not implement GRS 6.1 until NARA approves the form. Your agency may already have an approved form NA-1005; agencies are, however, required to resubmit form NA-1005 every four years per NARA Bulletin 2022-02, Resubmission of Capstone Forms. Forms are to be submitted to GRS_Team@nara.gov.

NARA regulations (36 CFR 1226.12(a)) require agencies to disseminate GRS changes within six months of receipt.

Per 36 CFR 1227.12(a)(1), you must follow GRS dispositions that state they must be followed without exception.

Per 36 CFR 1227.12(a)(3), if you have an existing schedule that differs from a new GRS item that does not require being followed without exception, and you wish to continue using your agency-specific authority rather than the GRS authority, you must notify NARA within 120 days of the date of this transmittal. Please send these notifications to GRS_Team@nara.gov.

If you do not have an already existing agency-specific authority but wish to apply a retention period that differs from that specified in the GRS, you must submit a records schedule to NARA for approval via the Electronic Records Archives.

7. How can an agency get copies of the new GRS?

You can download the complete current GRS, in PDF format, from NARA's website at http://www.archives.gov/records-mgmt/grs.html.

8. Whom should an agency contact for further information?

Please contact GRS_Team@nara.gov with any questions related to this transmittal.

Debra Steidel Wall,
Acting Archivist of the United States.

[FR Doc. 2023-00379 Filed 1-10-23; 8:45 am]

BILLING CODE 7515-01-P